DEPARTMENT OF ENERGY

Federal Energy Regulatory Commission

[Docket No. RP02-18-000]

Enbridge Pipelines (Midla) Inc.; Notice of Proposed Changes in FERC Gas Tariff

October 12, 2001.

Take notice that on October 8, 2001, Enbridge Pipelines (Midla) Inc., formerly Mid Louisiana Gas Company, (Midla) tendered for filing as part of its FERC Gas Tariff, Fourth Revised Volume No. 1, the following tariff sheets to be made effective October 1, 2001:

First Revised Sheet No. 27

First Revised Sheet No. 28

First Revised Sheet No. 33

First Revised Sheet No. 38

First Revised Sheet No. 44

First Revised Sheet No. 49

Midla states that the purpose of the filing is to reflect its current fuel reimbursement percentage as approved by the Commission in its Order dated September 19, 2001 in FERC Docket No. RP01-512-000. Midla further states that, at the time it filed its FERC Gas Tariff, Fourth Revised Volume No. 1 on September 7, 2001, to reflect a name change in FERC Docket No. GT01-30-000, the Commission had not accepted Mid Louisiana Gas Company's proposed modification to its fuel reimbursement provisions, therefore that filing did not reflect those modifications. Midla also states that it is not proposing any changes to its FERC Gas Tariff, Fourth Revised Volume No. 1, other than those already approved in FERC Docket No. RP01-512-000.

Midla states that copies of its transmittal letter and appendices have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26241 Filed 10-17-01; 8:45 am]

BILLING CODE 6717-01-P